DEPARTMENT OF COMMERCE

International Trade Administration

(A-588-817)

Electroluminescent Flat Panel Displays from Japan; Final Results of Sunset Review and Revocation of Antidumping Duty Order

AGENCY: Import Administration, International Trade Administration, Department of Commerce.

SUMMARY: The Department of Commerce (“the Department”) initiated a sunset review of the antidumping duty order on electroluminescent flat panel displays (EL FPDs) from Japan. See Initiation of Five-Year (“Sunset”) Reviews, 70 FR 9919 (March 1, 2005). Because no interested domestic party responded to the sunset review notice of initiation by the applicable deadline, the Department is revoking the antidumping duty order on EL FPDs from Japan.

EFFECTIVE DATE: April 11, 2005

FOR FURTHER INFORMATION CONTACT: Martha V. Douthit, Office of Policy, Import Administration, International Trade Administration, U.S. Department of Commerce, 14th Street and Constitution Avenue, NW, Washington, DC 20230; telephone: (202) 482-5050.

SUPPLEMENTARY INFORMATION:

Scope of the Order

The products covered by scope of the antidumping duty order constitute three classes or kinds of merchandise: (1) active-matrix liquid crystal high information content flat panel displays and display glass therefor; (2) gas plasma high information content flat panel displays and display glass therefor; and (3) electroluminescent high information content flat panel displays and display glass therefor.

1. Active-Matrix Liquid Crystal High Information Content Flat Panel Displays and Display Glass Therefor: Active-matrix liquid crystal high information content flat panel displays (active-matrix LCD FPDs) are large area, matrix addressed displays, no greater than four inches in depth, with a picture element (pixel) count of 120,000 or greater, whether complete or incomplete, assembled or unassembled. Active-matrix LCF FPDs utilize a thin-film transistor array to activate liquid crystal at individual pixel locations. Included are monochromatic, limited color, and full color displays used to display text, graphics, and video. Active-matrix LCD FPD display glass, whether or not integrated with additional components, exclusively dedicated to and designed for use in active-matrix LCD FPDs, is defined as processed glass substrates that incorporate patterned row, column, or both types of electrodes, and also typically incorporate a material that reacts to a change in voltage (i.e., liquid crystal) and contact pads for interconnecting drive electronics.

2. Gas Plasma High Information Content Flat Panel Displays and Display Glass Therefor:

Gas plasma high information content flat panel displays (gas plasma FPDs) are large area, matrix addressed displays, no greater than four inches in depth, with a pixel count of 120,000 or greater, whether complete or incomplete, assembled or unassembled. Gas plasma FPDs incorporate a matrix of electrodes that, when activated, excite a gaseous compound, typically neon and argon, causing it to emit light. Included are monochromatic, limited color, and full color displays used to display text, graphics, and video. Gas plasma FPD display glass, whether or not integrated with additional components, exclusively dedicated to and designed for gas plasma FPDs, is defined as processed glass substrates that incorporate patterned row, column, or both types of electrodes, and also typically incorporate a material that reacts to a change in voltage (i.e., gas plasma) and contact pads for interconnecting drive electronics.

3. Electroluminescent High Information Content Flat Panel Displays and Display Glass Therefor: EL FPDs are large area, matrix addressed displays, no greater than four inches in depth, with a pixel count of 120,000 or greater, whether complete or incomplete, assembled or unassembled. EL FPDs incorporate a matrix of electrodes that, when activated, apply an electrical current to a solid compound of electroluminescent material (i.e., zinc sulfide) causing it to emit light. Included are monochromatic, limited color, and full color displays used to display text, graphics, and video. EL FPD displays glass, whether or not integrated with additional components, exclusively dedicated to and designed for use in EL FPDs, is defined as processed glass substrates that incorporate patterned row, column, or both types of electrodes, and also typically incorporate a material that reacts to a change in voltage (i.e., phosphor) and contact pads for interconnecting drive electronics. The following merchandise is excluded from the scope of these investigations: Passive-matrix liquid crystal high information content flat panel displays and display glass therefor (passive-matrix LCD FPD); segmented flat panel displays; matrix addressed flat panel displays with less than 120,000 pixels; and cathode ray tubes (CRTs). All types of FPDs described above are currently classifiable under subheadings 8543, 8803, 9013, 9014, 9017.90.00, 9018, 9022, 9026, 9027, 9030, 9031, 8471.92.30, 8471.92.40, 8473.10.00, 8473.21.00, 8473.30.40, 8442,40.00, 8466, 8517.90.00, 8528.10.80, 8529.90.00, 8531.20.00, 8531.90.00, and 8541 of the Harmonized Tariff Schedule (“HTS”). Although the HTS subheadings are provided for convenience and customs purposes, our written description of the scope of this proceeding is dispositive.

Clarification of Scope:

We find that the continued inclusion in the scope of the antidumping duty order of display glass is warranted, given the apparent exclusion dedication of that subassembly and the fact that it represents that essential character of an FPD. The technology used by an FPD is defined by the technology of the display glass and, therefore, the basic technical characteristics of the completed FPD are also defined by the display glass. In addition, the selection of the other components is a function of the display technology, which is determined by the type of display glass. See High Information Content Flat Panel Displays and Display Glass Therefor From Japan: Final Determination of Sales at Less Than Fair Value, 56 FR 32376 (July 16, 1991).

Background

On September 9, 1991, the Department published the antidumping duty order on EL FPDs from Japan in the Federal Register. See High Information Content Flat Panel Displays and Display Glass Therefor From Japan: Antidumping Duty Order, 56 FR 43741 (September 9, 1991). On April 11, 2000, the Department published its notice of continuation of the antidumping duty order following the first sunset review. See Continuation of Antidumping Duty Order; Electroluminescent Flat Panel Displays from Japan, 65 FR 19360 (April 11, 2000).

The Department initiated a second sunset review of this order pursuant to section 751(c) of the Tariff Act of 1930, as amended, (the “Act”), and 19 CFR 351, in general. See Initiation of Five-Year (“Sunset”) Review, 70 FR 9919 (March 1, 2005). As a courtesy to interested parties, the Department sent letters, via certified and registered mail, to each party listed on the Department's most current service list for this proceeding to inform them of the automatic initiation of a sunset review of this order. We received no response from the domestic industry by the deadline date. See 19 CFR 351.218(d)(1)(i). As a result, the Department determined that no domestic party intends to participate in the sunset review. On March 24, 2005, the Department notified the International Trade Commission (“ITC”) in writing that we intended to issue a final determination revoking the antidumping duty order. See 19 CFR 351.218(d)(1)(iii)(B).

Determination to Revoke

Pursuant to section 751(c)(3)(A) of the Act and 19 CFR 351.218(d)(1)(iii)(B)(3), if no domestic interested parties respond to the notice of initiation, the Department shall issue a final determination, within 90 days after the initiation of the review, revoking the order. Because no domestic interested party filed a notice of intent to participate or a substantive response, the Department finds that no domestic interested party is participating in this review. Therefore, we are revoking the antidumping duty order effective the fifth anniversary of the date of the determination to continue the order, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct U.S. Customs and Border Protection to terminate the suspension of liquidation of the merchandise subject to this order entered, or withdrawn from warehouse, on or after April 11, 2005 (i.e., the fifth anniversary of the date of the publication of the continuation of the order in the Federal Register). Entries of subject merchandise prior to the effective date of revocation will continue to be subject to suspension of liquidation and antidumping and deposit requirements. The Department will complete any pending administrative reviews of this order and will conduct administrative reviews of subject merchandise entered prior to the effective date of revocation in response to appropriately filed requests for review.

This five-year (“sunset”) review and this notice are in accordance with sections 751(c) and 777(i)(1) of the Act.

Dated: May 25, 2005.
Holly A. Kuga,
Acting Assistant Secretary for Import Administration.

[FR Doc. E5-2812 Filed 6-1-05; 8:45 am]

Billing Code: 3510-DS-S